DEPARTMENT OF AGRICULTURE

Forest Service

Inyo National Forest; California; Revision of the Land Management Plan for the Inyo National Forest

AGENCY: Forest Service, USDA.

ACTION: Notice of opportunity to object to the Revised Land Management Plan for the Inyo National Forest.

SUMMARY: The Forest Service is revising the Inyo National Forest's Land and Resource Management Plan (forest plan). The Forest Service has prepared a Final Environmental Impact Statement (FEIS) for its revised forest plan and a draft Record of Decision (ROD). This notice is to inform the public that the Inyo National Forest is initiating a 60-day period where individuals or entities with specific concerns about the Inyo's revised forest plan and the associated FEIS may file objections for Forest Service review prior to the approval of the revised forest plan. This is also an opportunity to object to the Regional Forester's list of species of conservation concern (SCC) for the Inyo National Forest.

DATES: The Inyo's revised forest plan, FEIS, draft ROD, and other supporting information will be available for review at http://www.fs.usda.gov/goto/R5/FPR_Inyo and the Pacific Southwest Region species of conservation concern web page, https://www.fs.usda.gov/detail/r5/landmanagement/planning/?cid=STELPRD3847418. The publication date of the legal notice in the Inyo National Forest's newspaper of record, The Inyo Register, initiates the 60-day objection period and is the exclusive means for calculating the time to file an objection (36 CFR 219.52 (c)(5)). An electronic scan of the legal notice with the publication date will be posted at the website above.

ADDRESSES: Copies of the Inyo National Forest's revised forest plan, FEIS, and draft ROD can be obtained online at: https://www.fs.usda.gov/main/inyo/landmanagement/planning or at the following office: Inyo National Forest Supervisor's Office, 351 Pacu Lane Suite 200, Bishop, CA 93514-3101, Phone: 760-873-2400.

Objections must be submitted to the Objection Reviewing Officer Barnie Gyant, Deputy Regional Forester, at: USDA Forest Service, Pacific Southwest Region, ATTN: Inyo Forest Plan Objection, 1323 Club Dr., Vallejo, CA 94592, Fax: (707) 562-9049. Note that the office hours for submitting a hand-delivered objection are 8:00 a.m. to 4:30 p.m. Monday through Friday, excluding Federal holidays. Electronic objections may be submitted to objections-pacificsouthwest-regional-office@fs.fed.us in common formats (.doc, .docx, .rtf, .pdf, or .txt) with “Inyo Forest Plan Objection” or “Inyo species of conservation concern” in the subject line.

FOR FURTHER INFORMATION CONTACT: Inyo National Forest Environmental Coordinator, Leeann Murphy at 760-873-2404 or lbmurphy@fs.fed.us.

Individuals who use telecommunication devices for the deaf (TDD) may call the Federal Information Relay Service (FIRS) at 1-800-877-8339 between 8 a.m. and 8 p.m., Eastern Time, Monday through Friday.

SUPPLEMENTARY INFORMATION:

The decision to approve the revised forest plan for the Inyo National Forest and the Regional Forester's list of SCC will be subject to the objection process identified in 36 CFR part 219 Subpart B (219.50 to 219.62). An objection must include the following (36 CFR 219.54(c)):

(1) The objector's name and address along with a telephone number or email address if available. In cases where no identifiable name is attached to an objection, the Forest Service will attempt to verify the identity of the objector to confirm objection eligibility;

(2) Signature or other verification of authorship upon request (a scanned signature for electronic mail may be filed with the objection);

(3) Identification of the lead objector, when multiple names are listed on an objection. The Forest Service will communicate to all parties to an objection through the lead objector. Verification of the identity of the lead objector must also be provided if requested;

(4) The name of the plan revision being objected to, and the name and title of the responsible official;

(5) A statement of the issues and/or parts of the plan revision to which the objection applies;

(6) A concise statement explaining the objection and suggesting how the proposed plan decision may be improved. If the objector believes that the plan revision is inconsistent with law, regulation, or policy, an explanation should be included;

(7) A statement that demonstrates the link between the objector's prior substantive formal comments and the content of the objection, unless the objection concerns an issue that arose after the opportunities for formal comment; and

(8) All documents referenced in the objection (a bibliography is not sufficient), except that the following need not be provided:

a. All or any part of a Federal law or regulation,

b. Forest Service Directive System documents and land management plans or other published Forest Service documents,

c. Documents referenced by the Forest Service in the planning documentation related to the proposal subject to objection, and

d. Formal comments previously provided to the Forest Service by the objector during the plan revision comment period.

It is the responsibility of the objector to ensure that the Reviewing Officer receives the objection in a timely manner. The regulations prohibit extending the length of the objection filing period.

Responsible Official

The responsible official who will approve the ROD and the revised forest plan for the Inyo National Forest is Barbara Drake, Acting Forest Supervisor, Inyo National Forest, 351 Pacu Lane Suite 200, Bishop, CA 93514-3101. The responsible official for the SCC list is Randy Moore, Regional Forester, USDA Forest Service Pacific Southwest Region, 1323 Club Drive, Vallejo, CA 94592.

The Regional Forester is the reviewing officer for the revised forest plan since the Forest Supervisor is the deciding official (36 CFR 219.56(e)(2)). The Regional Forester will consider comments received and respond to them in the FEIS and ROD. The decision to approve the SCC list will be subject to a separate objection process. The Chief of the Forest Service is the reviewing officer for SCC identification since the Regional Forester is the deciding official (36 CFR 219.56(e)(2)). Information about species of conservation concern is available at https://www.fs.usda.gov/detail/r5/landmanagement/planning/?cid=STELPRD3847418.

Dated: June 29, 2018.
Glenn P. Casamassa,
Associate Deputy Chief, National Forest System.

[FR Doc. 2018-16662 Filed 8-2-18; 8:45 am]

BILLING CODE 3411-15-P